FEDERAL COMMUNICATIONS COMMISSION

47 CFR Part 26

[WT Docket No.13-115; Report No. 3226; FR ID 298792]

Petition for Reconsideration of Action in Rulemaking Proceeding; Correction

AGENCY: Federal Communications Commission.

ACTION: Petition for reconsideration; correction.

SUMMARY: The Federal Communications Commission (Commission) published a document in the Federal Register of May 30, 2025, concerning two Petitions for Reconsideration by which replies to oppositions must be filed. The document contained an incorrect date.

FOR FURTHER INFORMATION CONTACT: Mark DeSantis, Wireless Telecommunications Bureau, Mobility Division, (202) 418-0678 or mark.desantis@fcc.gov.

SUPPLEMENTARY INFORMATION:

Correction

In the Federal Register of May 30, 2025, in FR Doc. 2025-09819 make the following correction, in the DATES section. On page 22891, in the third column, remove the date “June 24, 2025” and add, in its place, “June 26, 2025”.

Federal Communications Commission.
Marlene Dortch,
Secretary, Office of the Secretary.

[FR Doc. 2025-10997 Filed 6-13-25; 8:45 am]

BILLING CODE 6712-01-P